DEPARTMENT OF THE INTERIOR

Bureau of Indian Affairs

Draft Environmental Impact Statement for the Proposed Enterprise Rancheria Gaming Facility and Hotel Fee-to-Trust Acquisition Project, Yuba County, CA

AGENCY: Bureau of Indian Affairs, Interior.

ACTION: Notice.

SUMMARY: This notice advises the public that the Bureau of Indian Affairs (BIA) as lead agency, with the Enterprise Rancheria of Estom Ymeka Maidu Tribe (Tribe), National Indian Gaming Commission, U.S. Environmental Protection Agency (EPA) and Yuba County, California, as cooperating agencies, intends to file a Draft Environmental Impact Statement (DEIS) with the EPA for the Tribe's proposed Gaming Facility and Hotel Fee-to-Trust Acquisition Project to be located within unincorporated Yuba County, and that the DEIS is now available for public review. This review is part of the administrative process that evaluates tribal applications that seek to have the United States take land into trust pursuant to 25 CFR part 151. We will consider public comments carefully prior to deciding whether to approve or disapprove this application. This notice also announces a public hearing to receive comments on the DEIS.

DATES: Written comments on the DEIS must arrive by May 5, 2008. A public hearing will be held on April 9, 2008, at the Elk's Lodge, 920 D Street, Marysville, California, 95901-5322, from 6 p.m. to 9 p.m., or until all those who register to make comments have been heard.

ADDRESSES: You may mail or hand carry written comments to Amy Dutschke, Acting Regional Director, Pacific Regional Office, Bureau of Indian Affairs, 2800 Cottage Way, Sacramento, California 95825. Please include your name, return address, and the caption, “DEIS Comments, Enterprise Rancheria, Gaming Facility and Hotel Fee-to-Trust Acquisition Project,” on the first page of your written comments.

The DEIS will be available for review at the Yuba County Public Library, 303 2nd Street, Marysville, California 95901; the Sutter County Library, 720 Forbes Avenue, Yuba City, California 95991, and the Butte County Library, 1820 Mitchell Avenue, Oroville, California 95966. General information for the Yuba County Public Library can be obtained by calling (530) 749-7380. For information on the Sutter County Library please call (530) 822-7137. For the Butte County Library, please call (530) 538-7641.

If you would like to obtain a copy of the DEIS, please write or call John Rydzik, Chief, Division of Environmental, Cultural Resource Management and Safety, Pacific Region, Bureau of Indian Affairs, 2800 Cottage Way, Room W-2820, Sacramento, California 95825, telephone (916) 978-6042. You may view an electronic version of the DEIS at: http://www.EnterpriseEIS.com.

FOR FURTHER INFORMATION CONTACT: John Rydzik, (916) 978-6042.

SUPPLEMENTARY INFORMATION: The Tribe has requested that the BIA take into trust 40 acres of land currently held in fee by the Tribe, on which the Tribe proposes to construct a gaming facility, hotel, parking areas and other facilities. The proposed 40-acre site (Yuba site) is located in unincorporated Yuba County, approximately four miles southeast of the Community of Olivehurst, near the intersection of Forty Mile Road and State Route 65.

The proposed project includes the development of a 207,760 square-foot gaming facility and a 107,125 square-foot hotel on the Yuba site. The two-story gaming facility would include a casino floor, food and beverage areas (consisting of a buffet, gourmet restaurant, and bar), meeting space, guest support services, offices, and security area. The resort would include an eight-story hotel with 170 rooms, a pool area, an exercise room, retail space and an arcade. Access to the site would be provided from Forty Mile Road.

The range of alternatives considered in the DEIS: includes (A) the proposed casino and hotel alternative, (B) a reduced intensity alternative, (C) a water park and hotel alternative, (D) a reduced intensity—Butte County alternative and (E) a no action alternative. Environmental issues addressed in the DEIS include land resources, water resources, air quality, biological resources, cultural resources, socioeconomic conditions, environmental justice, transportation, land use, agriculture, public services, noise, hazardous materials, visual resources, cumulative effects, indirect effects, growth inducing effects and mitigation measures.

The BIA held a public scoping meeting for the EIS on June 9, 2005, at the Elk's Lodge in Marysville, California.

Public Comment Availability

Comments, including names and addresses of respondents, will be available for public review at the BIA address shown in the ADDRESSES section, during business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the Council of Environmental Quality Regulations (40 CFR, Parts 1500 through 1508) implementing the procedural requirements of the National Environmental Policy Act of 1969, as amended (42 U.S.C. 4371 et seq.), and the Department of the Interior Manual (516 DM 1-6), and is in the exercise of authority delegated to the Assistant Secretary—Indian Affairs by 209 DM 8.l.

Dated: March 4, 2008.
Carl J. Artman,
Assistant Secretary—Indian Affairs.

[FR Doc. E8-5342 Filed 3-20-08; 8:45 am]

BILLING CODE 4310-W7-P